DEPARTMENT OF AGRICULTURE

Forest Service

Hood/Willamette Resource Advisory Committee; Meeting

AGENCY: Forest Service, USDA.

ACTION: Notice of meeting.

SUMMARY: The Hood/Willamette Resource Advisory Committee will meet in Salem, Oregon. The committee is meeting as authorized under the Secure Rural Schools and Community Self-Determination Act (Pub. L. 110-343) and in compliance with the Federal Advisory Committee Act. The purpose of the meeting is to make recommendations for the 2012 projects.

DATES: The meeting will be held on May 16, 2011, and begin at 9:30 a.m.

ADDRESSES: The meeting will be held at the Salem Office of the Bureau of Land Management Office; 1717 Fabry Road SE; Salem, Oregon; (503) 375-5646. Written comments should be sent to Connie Athman, Mt. Hood National Forest, 16400 Champion Way, Sandy, Oregon 97055. Comments may also be sent via e-mail to cathman@fs.fed.us, or via facsimile to 503-668-1413.

All comments, including names and addresses when provided, are placed in the record and are available for public inspection and copying. The public may inspect comments received at Mt. Hood National Forest, 16400 Champion Way, Sandy, Oregon 97055.

FOR FURTHER INFORMATION CONTACT: Connie Athman, Designated Federal Official, Mt. Hood National Forest, 16400 Champion Way, Sandy, Oregon 97055; (503) 668-1672; E-mail: cathman@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Recommendations on 2012 Projects; and (2) Public Forum.

The Public Forum is tentatively scheduled to begin at 9:45 a.m. Time allotted for individual presentations will be limited to 4-5 minutes. Written comments are encouraged, particularly if the material cannot be presented within the time limits for the Public Forum. Written comments may be submitted prior to the May 16th meeting by sending them to the Designated Federal Official, Connie Athman at the address given above.

Dated: March 21, 2011.
Kathryn J. Silverman,
Acting Forest Supervisor.

[FR Doc. 2011-8269 Filed 4-6-11; 8:45 am]

BILLING CODE 3410-11-P